DEPARTMENT OF DEFENSE

Office of the Secretary

[Transmittal No. 21-41]

Arms Sales Notification

AGENCY: Defense Security Cooperation Agency, Department of Defense (DoD).

ACTION: Arms sales notice.

SUMMARY: The Department of Defense is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-41 with attached Policy Justification and Sensitivity of Technology.

Dated: February 25, 2022.
Aaron T. Siegel,
Alternate OSD Federal Register Liaison Officer, Department of Defense.

BILLING CODE 5001-06-P

BILLING CODE 5001-06-C

Transmittal No. 21-41

Notice of Proposed Issuance of Letter of Offer Pursuant to Section 36(b)(1) of the Arms Export Control Act, as amended

(i) Prospective Purchaser: Government of Australia

(ii) Estimated Value:

Major Defense Equipment * | $211 million
Other | $ 48 million
Total | $259 million

(iii) Description and Quantity or Quantities of Articles or Services under Consideration for Purchase:

Major Defense Equipment (MDE):

Four (4) CH-47F Cargo Helicopters with customer-unique modifications

Eight (8) T55-GA-714A Aircraft Turbine Engines

Five (5) AN/AAR-57 Common Missile Warning Systems (CMWS)

Eight (8) Embedded Global Positioning System (GPS)/Inertial Navigation Systems (INS/EGI) +429

Two (2) EAGLE+429 Embedded Global Positioning System (GPS)/Inertial Navigation Systems (INS/EGI)

Non-MDE:

Also included is mission equipment; communication and navigation equipment; spare parts and components; special tools and test equipment; publications and technical manuals; U.S. Government and contractor engineering, maintenance, technical, and logistical support services, and other related elements of program and logistical support.

(iv) Military Department: Army (AT-B-ULZ)

(v) Prior Related Cases, if any: AT-B-UDK, AT-B-VAF

(vi) Sales Commission, Fee, etc., Paid, Offered, or Agreed to be Paid: None

(vii) Sensitivity of Technology Contained in the Defense Article or Defense Services Proposed to be Sold: See Attached Annex

(viii) Date Report Delivered to Congress: April 29, 2021

* As defined in Section 47(6) of the Arms Export Control Act.

POLICY JUSTIFICATION

Australia—CH-47F Chinook Helicopters

The Government of Australia has requested to buy four (4) CH-47F cargo helicopters with customer-unique modifications; eight (8) T55-GA-714A aircraft turbine engines, five (5) AN/AAR-57 Common Missile Warning Systems (CMWS); eight (8) Embedded Global Positioning System (GPS)/Inertial Navigation Systems (INS/EGI) +429; and two (2) EAGLE+429 Embedded Global Positioning System (GPS)/Inertial Navigation Systems (INS/EGI). Also included is mission equipment; communication and navigation equipment; spare parts and components; special tools and test equipment; publications and technical manuals; U.S. Government and contractor engineering, maintenance, technical, and logistical support services, and other related elements of program and logistical support. The total estimated value is $259 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale of this equipment and support will improve Australia's capability to meet current and future threats, increase operational capabilities, strengthen its homeland defense and promote military cooperation.

The proposed sale of this equipment will not alter the basic military balance in the region.

These aircraft will be provided from U.S. Army stock. The purchaser typically requests offsets. Any offset agreement will be defined in negotiations between the purchaser and the contractor(s).

Implementation of this proposed sale will not require the assignment of any additional U.S. or contractor representatives.

There will be no adverse impact on U.S. defense readiness as a result of this proposed sale.

Transmittal No. 21-41

Notice of Proposed Issuance of Letter of Offer Pursuant to Section 36(b)(1) of the Arms Export Control Act

Annex

Item No. vii

(vii) Sensitivity of Technology:

1. The CH-47F is a twin engine heavy lift helicopter. The CH-47F has the Common Avionics Architecture System (CAAS) cockpit, which provides aircraft system, flight, mission, and communication management systems. The CAAS includes five multifunction displays (MFDs), two general purpose processor units (GPPUs), two control display units (CDUs) and two data concentrator units (DCUs). The Navigation System will have two Embedded GPS/INS (EGIs), two Digital Advanced Flight Control System (DAFCS), one ARN-149 Automatic Direction Finder, one ARN-147 VHF Omni Ranging/Instrument Landing System (VOR/ILS)/Marker Beacon (MB) System, one ARN-153 Tactical Air Navigation (TACAN) System, two air data computers, and one radar altimeter system. The communications suite consists of two each AN/ARC-231 Multi-mode radios providing VHF FM, VHF-AM, UHF, HQ II and DAMA SATCOM, and two each AN/ARC-201D SINCGARS radios. Also included is the AN/APXX-123A Identification Friend or Foe (IFF) system.

2. The AN/APX-123A Identify Friend-or-Foe (IFF) digital transponder set provides pertinent platform information in response to an IFF interrogator. The digital transponder provides cooperative Mark XII IFF capability using full diversity selection, as well as Mode Select (Mode S) capability. In addition, transponder operation provides interface capability with the aircraft's Traffic Collision and Avoidance System (TCAS). The transponder receives pulsed radio frequency interrogation signals in any of six modes (1, 2, 3/A, S, and 5), decodes the signals, and transmits a pulsecoded reply. The Mark XII IFF operation includes Selective Identification Feature (SIF) Modes 1, 2, 3/A and C, as well as secure cryptographic Mode 5 operational capability.

3. The AN/ARC-231 Ultra High Frequency (UHF) radio is a software defined radio for military aircraft that provides two-way multi-mode voice and data communications. It provides joint service standard line of sight (LOS), HAVE QUICK, SATURN, and SINCGARS electronic counter-counter measures (ECCM), along with integrated waveform satellite communications (SATCOM).

4. The Embedded GPS/INS (EGI) unit CN-1689-(H-764GU) contains sensitive GPS technology. The EGI+429 and the obsolescence-fix version, the EAGLE+429 EGI, are self-contained, all-attitude navigation system providing outputs of linear and angular acceleration, linear and angular velocity, position, attitude (roll, pitch), platform azimuth, magnetic and true heading, altitude, body angular rates, time tags, and Universal Time Coordinated (UTC) synchronized time. The EGI+429 and EAGLE+429 EGI accepts Radio Frequency (RF) Global Positioning System (GPS) satellite transmissions, and provides these signals as inputs to the Embedded GPS Receiver (EGR). The EGR tracks up to twelve space vehicles (SV) signals simultaneously. The EGR supports the GPS and blended GPS/INS navigation solutions.

5. The AN/ARN-149, Automatic Direction Finder (ADF) Receiver, is a low frequency radio that provides automatic compass bearing on any radio signal within the frequency range of 100 to 2199.5 kHz as well as navigation where a commercial AM broadcast signal is the only available navigation aid.

6. The AN/ARN-153, Tactical Airborne Navigation (TACAN) System, is a full featured navigational system that supports four modes of operation: receive mode; transmit receive mode; air-to-air receive mode; and air-to-air transmit-receive mode. The TACAN provides a minimum 500-watt transmit capability with selecting range ratios of 30:1 or 4:1 which is accomplished through the automatic gain control (AGC) enable/disable switch, the 1553 bus, or the RNAV (ARINC) input bus.

7. The AN/ARN-147 Very High Frequency (VHF) Omni Ranging/Instrument Landing System receives input from ground navigation beacons and aids in aircraft navigation.

8. The AAR-57 Common Missile Warning System (CMWS) detects energy emitted by threat missile in-flight, evaluates potential false alarm emitters in the environment, declares validity of threat and selects appropriate counter-measures for defeat. The CMWS consists of an Electronic Control Unit (ECU), Electro-Optic Missile Sensors (EOMSs), and Sequencer and Improved Countermeasures Dispenser (ICMD).

9. The AN/APR-39 Radar Warning Receiver Signal Detecting Set is a system that provides warning of a radar directed air defense threat and allows appropriate countermeasures. Included 1553 databus compatible configuration.

10. The highest level of classification of defense articles, components, and services included in this potential sale is SECRET.

11. If a technologically advanced adversary were to obtain knowledge of the specific hardware and software elements, the information could be used to develop countermeasures that might reduce weapon system effectiveness or be used in the development of a system with similar or advanced capabilities.

12. A determination has been made that the Government of Australia can provide substantially the same degree of protection for the sensitive technology being released as the U.S. Government. This sale is necessary in furtherance of the U.S. foreign policy and national security objectives outlined in the Policy Justification.

13. All defense articles and services listed in this transmittal are authorized for release and export to the Government of Australia.

[FR Doc. 2022-04475 Filed 3-2-22; 8:45 am]

BILLING CODE 5001-06-P